ENVIRONMENTAL PROTECTION AGENCY

[EPA-HQ-OITA-2023-0383; FRL-11536-01-OITA]

Proposed Information Collection Request; Comment Request; Combined EPA-Tribal Environmental Plan (ETEP) and Indian Environmental General Assistance Program (GAP) Work Plan Template

AGENCY: Environmental Protection Agency (EPA).

ACTION: Notice.

SUMMARY: The Environmental Protection Agency is planning to submit an information collection request (ICR), “Combined EPA-Tribal Environmental Plan (ETEP) and Indian Environmental General Assistance Program (GAP) Work Plan Template” (EPA ICR No. 2790.01, OMB Control No. 2090-NEW) to the Office of Management and Budget (OMB) for review and approval in accordance with the Paperwork Reduction Act. Before doing so, EPA is soliciting public comments on specific aspects of the proposed information collection as described below. This is a request for approval of a new collection. An Agency may not conduct or sponsor and a person is not required to respond to a collection of information unless it displays a currently valid OMB control number.

DATES: Comments must be submitted on or before February 2, 2024.

ADDRESSES: Submit your comments, referencing Docket ID No. EPA-HQ-OITA-2023-0383 online using www.regulations.gov (our preferred method), by email to docket_oms@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Abigail Cruz, Office of International and Tribal Affairs/American Indian Environmental Office, 2690R, Environmental Protection Agency, 1200 Pennsylvania Ave. NW, Washington, DC 20460; telephone number: 202-564-5999; fax number: 202-566-9744; email address: cruz.abigail@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1752. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility: (ii) Evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA is developing a template to assist grantees and EPA with the creation of combined EPA-Tribal Environmental Plans (ETEPs) and Indian Environmental General Assistance Program (GAP) work plans. This template will provide a streamlined way to identify and report information that is already outlined in the 2022 GAP Guidance, 40 CFR 35.507, and the 1992 Indian Environmental General Assistance Program Act. In the 2022 GAP Guidance, section 2.3, the American Indian Environmental Office (AIEO) commits to providing templates to assist Tribes considering a streamlined format. The template itself does not introduce any new requirements, nor does it limit the information that applicants may submit.

Form Numbers: None.

Respondents/affected entities: small governmental jurisdiction (Federally recognized Tribes and intertribal consortia).

Respondent's obligation to respond: mandatory if the recipient chooses to combine their GAP EPA-Tribal Environmental Plan and Work Plan into one document.

Estimated number of respondents: 500 (total).

Frequency of response: annually (and also every 3-5 years).

Total estimated burden: 2 hours (per year) and 28 hours (every 3-5 years). Burden is defined at 5 CFR 1320.03(b).

Total estimated cost: $1650 (30 hours total/every 3-5 years), but $110 (per year).

Changes in Estimates: There will likely be a decrease of hours in the total estimated respondent burden due to the fact that the recipients will now have a streamlined template, resulting in less duplicative and unnecessary reporting and increased clarity in what reporting is required.

Jane Nishida,
Assistant Administrator, Office of International and Tribal Affairs.

[FR Doc. 2023-26520 Filed 12-1-23; 8:45 am]

BILLING CODE 6560-50-P